DEPARTMENT OF THE INTERIOR

National Park Service

Notice of Inventory Completion: U.S. Department of the Interior, National Park Service, Tonto National Monument, Roosevelt, AZ

AGENCY: National Park Service, Interior.

ACTION: Notice.

Notice is here given in accordance with the Native American Graves Protection and Repatriation Act (NAGPRA), 25 U.S.C. 3003, of the completion of an inventory of human remains and associated funerary objects in the control of the U.S. Department of the Interior, National Park Service, Tonto National Monument, Roosevelt, AZ. The human remains and cultural items were removed from two sites within the monument's boundaries and one site west of the monument.

This notice is published as part of the National Park Service's administrative responsibilities under NAGPRA, 25 U.S.C. 3003 (d)(3). The determinations in this notice are the sole responsibility of the superintendent, Tonto National Monument.

A detailed assessment of the human remains and associated funerary objects was made by Tonto National Monument professional staff in consultation with representatives of the Gila River Indian Community of the Gila River Indian Reservation, Arizona; Hopi Tribe of Arizona; Salt River Pima-Maricopa Indian Community of the Salt River Reservation, Arizona; Tohono O'odham Nation of Arizona; and Zuni Tribe of the Zuni Reservation, New Mexico. The Ak Chin Indian Community of the Maricopa (Ak Chin) Indian Reservation, Arizona, was contacted, but did not attend the consultation meeting and was represented by the Gila River Indian Community of the Gila River Indian Reservation, Arizona.

In 1936 and 1940, human remains representing a minimum of two individuals were removed from the monument's Upper Ruin site in Gila County, AZ, during legally authorized excavations by the National Park Service. No known individuals were identified. The three associated funerary objects are textile fragments.

Diagnostic artifacts found associated with the burials as well as elsewhere on the site indicate that the human remains were buried during the Gila phase of the Classic period (A.D. 1300-1450).

In 1950, human remains representing a minimum of three individuals were recovered from the monument's Lower Ruin site in Gila County, AZ, during legally authorized excavations by the National Park Service. No known individuals were identified. The 25 associated funerary objects are 1 gourd container, 1 Tonto Red bowl, 1 piece of cordage, 1 cradleboard, 1 rattle, 2 twilled baskets, 1 awl, 8 awl fragments, 1 crystal, 1 box containing fragments of blue, red, and green painted staffs, 1 bone tessera, 3 mat fragments, 1 spindle, 1 ring of yucca fiber, and 1 pendant.

Diagnostic artifacts found associated with the burials as well as elsewhere on the site indicate that the human remains were buried during the Gila phase of the Classic period (A.D. 1300-1450).

In 1956, human remains representing a minimum of two individuals were donated to the National Park Service by Dr. Cyril M. Cron. The remains were removed by unknown persons from the monument's Upper Ruin site in Gila County, AZ. No known individuals were identified. The 23 associated funerary objects are 2 blankets, 1 cordage artifact, 1 cradleboard, 1 impression of twilled matting, 1 pillow, 6 textile fragments and 1 box of textile fragments, 8 textile strips, and 2 textiles.

Diagnostic artifacts found on the site indicate that the human remains were buried during the Gila phase of the Classic period (A.D. 1300-1450). These human remains and associated funerary objects are recorded on the NAGPRA inventory of the Western Archeological and Conservation Center (WACC) of National Park Service, where they are stored, but are included here for consistency.

In 1963, human remains representing a minimum of one individual were inadvertently discovered by Arizona State Highway Department workers outside the monument on the west side of Tonto Creek, Gila County, AZ. No known individual was identified. The one associated funerary object is a Salado Red ceramic bowl.

The associated funerary object as well as objects found nearby indicate that the human remains were buried during the Classic period (A.D. 1200-1450). At the time of discovery, the Arizona State Highway Department requested assistance from National Park Service, which was provided. The human remains and associated funerary object were subsequently accessioned into Tonto National Monument's collections. On November 29, 2005, the Arizona Department of Transportation consented to Tonto National Monument taking NAGPRA responsibility for these human remains and associated funerary object.

Tonto Basin is one of several areas in the Southwest associated with the “Salado,” a term that has invoked archeological debate since the 1930s. The basin is located between the desert-dwelling Hohokam to the south and ancestral Puebloan groups of the mountain areas to the north and east. The geographic area contains a variety of architectural styles and material culture that represent both the Hohokam and ancestral Puebloan traditions. For example, both architectural styles are sometimes found within single sites, suggesting close mixing between the two groups. Recent research suggests that the intermixing of these two groups may have occurred in the late 13th century to the middle part of the 15th century when the Tonto Basin was depopulated. Site types in the Tonto Basin include fieldhouses, roomblocks, compounds, and platform mounds. In addition, pottery such as Roosevelt Red Ware, Salado Red, and Salado White-on-red represent a key component to Salado material culture. These ceramics were found during excavations of the upper and lower cliff dwellings in Tonto National Monument.

Overall, the archeological evidence, including material culture, architectural styles, and burial practices, indicates affiliation with a number of contemporary indigenous groups both from the southern and northern Southwest, including the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico. In addition to the archeological evidence, oral traditions of the six tribes support ancestral ties to the Salado cultural tradition.

Officials of Tonto National Monument have determined that, pursuant to 25 U.S.C. 3001 (9-10), the human remains described above represent the physical remains of eight individuals of Native American ancestry. Officials of Tonto National Monument also have determined that, pursuant to 25 U.S.C. 3001 (3)(A), the 52 objects described above are reasonably believed to have been placed with or near individual human remains at the time of death or later as part of the death rite or ceremony. Lastly, officials of Tonto National Monument have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact Bradley S. Traver, superintendent, Tonto National Monument, HC 02, Box 4602, Roosevelt, AZ 85545, telephone (928) 467-2241, before March 24, 2006. Repatriation of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

Tonto National Monument is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: January 27, 2006.
C. Timothy McKeown,
Acting Manager, National NAGPRA Program.

[FR Doc. E6-2446 Filed 2-21-06; 8:45 am]

BILLING CODE 4312-50-S